NUCLEAR REGULATORY COMMISSION

[Docket No. 50-271-LR; ASLBP No. 06-849-03-LR]

Entergy Nuclear Operations, Inc.; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding:

Entergy Nuclear Operations, Inc.

(Vermont Yankee Nuclear Power Station)

A Licensing Board is being established pursuant to a March 21, 2006 notice of opportunity for hearing (71 FR 15220 (March 27, 2006)) to consider the April 27, 2006 request of the Town of Marlboro, Vermont, and the May 26, 2006 requests of the Massachusetts Attorney General, the State of Vermont Department of Public Service, and the New England Coalition, challenging the January 25, 2006 application for renewal of Operating License No. DPR-28, which authorizes Entergy Nuclear Operations, Inc. (Entergy), to operate the Vermont Yankee Nuclear Power Station. The Entergy Nuclear Operations, Inc. renewal application seeks to extend the current operating license for the facility, which expires on March 21, 2012, for an additional twenty years.

The Board is comprised of the following administrative judges:

Alex S. Karlin, Chair, Atomic Safety and Licensing Board Panel, U.S. Nuclear Regulatory Commission, Washington, DC 20555-0001.

Richard E. Wardwell, Atomic Safety and Licensing Board Panel, U.S. Nuclear Regulatory Commission, Washington, DC 20555-0001.

Thomas S. Elleman, Atomic Safety and Licensing Board Panel, U.S. Nuclear Regulatory Commission, Washington, DC 20555-0001.

All correspondence, documents, and other materials shall be filed with the administrative judges in accordance with 10 CFR 2.302.

Issued at Rockville, Maryland, this 8th day of June 2006.
G. Paul Bollwerk III,
Chief Administrative Judge, Atomic Safety and Licensing Board Panel.

[FR Doc. E6-9252 Filed 6-13-06; 8:45 am]

BILLING CODE 7590-01-P